FEDERAL HOUSING FINANCE BOARD

Sunshine Act Meeting Notice; Announcing a Closed Meeting of the Board of Directors

Time and Date: The meeting of the Board of Directors is scheduled to begin at 10 a.m. on Wednesday, December 15, 2004.

Place: Board Room, Second Floor, Federal Housing Finance Board, 1777 F Street, NW., Washington, DC 20006.

Status: The entire meeting will be closed to the public.

Matter to be Considered at the Meeting: Periodic Update of Examination Program Development and Supervisory Findings.

Contact Person for More Information: Shelia S. Willis, Paralegal Specialist, Office of General Counsel, by telephone at (202) 408-2876 or by electronic mail at williss@fhfb.gov.

Dated: December 9, 2004.
By the Federal Housing Finance Board.
Mark J. Tenhundfeld,
General Counsel.

[FR Doc. 04-27403 Filed 12-9-04; 5:11 pm]

BILLING CODE 6725-01-P